DEPARTMENT OF LABOR

Employment and Training Administration

[TA-W-54,203B, TA-W-54,203C, TA-W-54,203D, and TA-W-54,203E]

Coats American, Inc. Corporate Headquarters, Charlotte, North, NC Including Sales and Marketing Employees of Coats American, Inc. Corporate Headquarters, Operating at Various Locations in the States of: Regional Manager Southwest, Texas and California; Regional Manager Northeast, Pennsylvania; Amended Certification Regarding Eligibility to Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on March 15, 2004, applicable to workers of Coats American, Inc., Corporate Headquarters, Charlotte, North Carolina. The notice will be published soon in the Federal Register.

At the request of a company official, the Department reviewed the certification for workers of the subject firm. New information shows that worker separations have occurred involving employees of the Charlotte, North Carolina facility of Coats American, Inc., Corporate Headquarters operating at various locations in the states of Texas, California and Pennsylvania. These employees provide sales and marketing support function services for the production of specialty thread and cocoon bobbins produced by the subject firm.

Based on these findings, the Department is amending this certification to include sales and marketing employees of the Coats American, Inc., Corporate Headquarters, Charlotte, North Carolina, operating at various locations in the States of Texas, California and Pennsylvania.

The intent of the Department's certification is to include all workers of Coats American, Inc. who were adversely affected by a shift in production to Mexico. The amended notice applicable to TA-W-54,203B is hereby issued as follows:

All workers of Coats American, Inc., Corporate Headquarters, Charlotte, North Carolina (TA-W-54,203B), including sales and marketing employees of Coats American, Inc., Corporate Headquarters, Charlotte, North Carolina, Regional Manager Southwest, operating at various locations in the states of Texas (TA-W-54,203C), California (TA-W-54,203D), and Regional Manager Northeast, Pennsylvania (TA-W-54,203E), who became totally or partially separated from employment on or after February 3, 2003, through March 15, 2006, are eligible to apply for adjustment assistance under section 223 of the Trade Act of 1974, and are also eligible to apply for alternative trade adjustment assistance under section 246 of the Trade Act of 1974.

Signed in Washington, DC, this 21st day of April, 2004.
Linda G. Poole,
Certifying Officer, Division of Trade Adjustment Assistance.

[FR Doc. E4-958 Filed 4-29-04; 8:45 am]

BILLING CODE 4510-13-P